DEPARTMENT OF ENERGY

Federal Energy Regulatory Commission

[Project No. 2639-028]

Northern States Power Company—Wisconsin; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 2639-028.

c. Date filed: November 30, 2021.

d. Applicant: Northern States Power Company—Wisconsin.

e. Name of Project: Cornell Hydroelectric Project.

f. Location: On the Lower Chippewa River, in the township of Cornell, Chippewa County, Wisconsin. The project does not include any federal lands.

g. Filed Pursuant to: Federal Power Act 16 U.S.C. 791(a)-825(r).

h. Applicant Contact: Matthew Miller, Hydro License Compliance Consultant, Xcel Energy, 1414 W Hamilton Ave., P.O. Box 8, Eau Claire, WI 54702; phone: 715-737-1353; email: Matthew.j.miller@xcelenergy.com or James Zyduck, Director Hydro Plants, Xcel Energy, 1414 W Hamilton Ave., P.O. Box 8, Eau Claire, WI 54702.

i. FERC Contact: Michael Davis (202) 502-8339, Michael.Davis@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 29, 2022.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2639-028.

m. The application is not ready for environmental analysis at this time.

n. The Cornell Hydroelectric Project consists of the following existing facilities: (1) A non-overflow concrete bulkhead with intake; (2) a powerhouse with an integral intake, four turbine-generator units; (3) two gated spillways; (4) a concrete non-overflow dam section; (5) an overflow spillway with flashboards; (5) an earthen embankment; (6) a step-up transformer; and (7) a transmission line. The project has a storage capacity of 7,005 acre-feet at reservoir elevation of 1000.6 feet National Geodetic Vertical Datum with a surface area of about 897 acres. The project has a combined total rated capacity of 30.75 megawatts.

o. A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) January 2022

Request Additional Information (if necessary) January 2022

Issue Scoping Document 1 for comments June 2022

Issue Scoping Document 2 (if necessary) October 2022

Issue Notice of Ready for Environmental Analysis October 2022

Final amendments to the application must be filed with the Commission no later than 30 days from the issuance date of the notice of ready for environmental analysis.

Dated: December 8, 2021.
Debbie-Anne A. Reese,
Deputy Secretary.

[FR Doc. 2021-27063 Filed 12-14-21; 8:45 am]

BILLING CODE 6717-01-P